DEPARTMENT OF LABOR

Office of Labor-Management Standards

RIN 1215-AB52

Union Officials: Guidelines for Fiduciary Responsibilities Under Section 501 of the Labor-Management Reporting and Disclosure Act, 29 U.S.C. § 501

AGENCY: Office of Labor-Management Standards, Employment Standards Administration, United States Department of Labor.

ACTION: Request for information from the public, extension of comment period.

SUMMARY: This document extends the period for comments on the Request for Information published on August 29, 2005 (70 FR 51228). The request seeks information from the public to assist the Department in determining whether to issue guidelines concerning the fiduciary obligations of union officers, agents, shop stewards and other representatives under the Labor-Management Reporting and Disclosure Act, as amended (LMRDA), and the content of any such guidelines. The comment period, which was to expire on October 28, 2005, is extended ninety days to January 26, 2006.

DATES: Comments on the Request for Information published on August 29, 2005 (70 FR 51228) must be received on or before January 26, 2006.

ADDRESSES: You may submit comments, identified by RIN 1215-AB52, by any of the following methods:

E-mail: OLMS-REG-1215-AB52@dol.gov.

FAX: (202) 693-1340. To assure access to the FAX equipment, only comments of five or fewer pages will be accepted via FAX transmittal, unless arrangements are made prior to faxing, by calling the number below and scheduling a time for FAX receipt by the Office of Labor-Management Standards (OLMS).

Mail: Mailed comments should be sent to Kay Oshel, Director of the Office of Policy, Reports and Disclosure, Office of Labor-Management Standards, U.S. Department of Labor, 200 Constitution Avenue NW., Room N-5605, Washington, DC 20210. Because the Department continues to experience delays in U.S. mail delivery due to the ongoing concerns involving toxic contamination, commenters should take this into consideration when preparing to meet the deadline for submitting comments.

OLMS recommends that you confirm receipt of your comment by contacting (202) 693-0123 (this is not a toll-free number). Individuals with hearing impairments may call (800) 877-8339 (TTY/TDD).

Comments will be available for public inspection during normal business hours at the above address.

FOR FURTHER INFORMATION CONTACT: Kay H. Oshel, Director of the Office of Policy, Reports and Disclosure, at:

Kay H. Oshel, U.S. Department of Labor, Employment Standards Administration, Office of Labor-Management Standards, 200 Constitution Avenue NW., Room N-5605, Washington, DC 20210, olms-public@dol.gov, (202) 693-1233 (this is not a toll-free number), (800) 877-8339 (TTY/TDD). E-mail: OLMS-REG-1215-AB52@dol.gov.

SUPPLEMENTARY INFORMATION: In the Federal Register of August 29, 2005 (70 FR 51288), the Department published a request for information from the public. The request seeks information to assist the Department in determining whether to issue guidelines concerning the fiduciary obligations of union officers, agents, shop stewards and other representatives under the LMRDA. The request also asked for comments concerning what specific standards should be included in any such guidelines. Interested persons were invited to submit comments on or before October 28, 2005, 60 days after the publication of the notice. Based on separate requests by the American Federation of Labor and Congress of Industrial Organizations and the United Brotherhood of Carpenters and Joiners of America for additional time to prepare comments, the Department has decided to extend the comment period for an additional ninety days.

The request for information is available on the web site maintained by OLMS at http://www.olms.dol.gov. (Anyone who is unable to access this information on the Internet can obtain the information by contacting the Employment Standards Administration at 200 Constitution Avenue, NW., Room N-5605, Washington, DC 20210, at olms-mail@dol-esa.gov, or at (202) 693-0122 (this is not a toll-free number). Individuals with hearing impairments may call 1-800-877-8339 (TTY/TDD).

Signed at Washington, DC, this 19th day of October, 2005.
Victoria A. Lipnic,
Assistant Secretary for Employment Standards.
Don Todd,
Deputy Assistant Secretary for Labor-Management Programs.

[FR Doc. 05-21275 Filed 10-24-05; 8:45 am]

BILLING CODE 4510-CP-P